DEPARTMENT OF EDUCATION

[CFDA No. 84.364]

Office of Elementary and Secondary Education; Improving Literacy Through School Libraries Program Notice Inviting Applications for New Awards for Fiscal Year (FY) 2002

Note to Applicants: This notice is a complete application package. Together with the statute authorizing the program and the Education Department General Administrative Regulations (EDGAR), this notice contains all of the information, application forms, and instructions you need to apply for a grant under this competition.

Purpose of Program: The purpose of this program is to improve student literacy skills and academic achievement by providing students with increased access to up-to-date school library materials; a well-equipped, technologically advanced school library media center; and well-trained, professionally certified school library media specialists.

This competition focuses on projects designed to meet the priority described in the PRIORITY section of this notice.

Eligible Applicants: Local educational agencies (LEAs) in which at least 20 percent of the students served by the LEA are from families with incomes below the poverty line. (20 U.S.C. 6383)

Deadline for Notification of Intent to Apply for Funding: June 28, 2002.

We will be able to develop a more efficient process for reviewing grant applications if we have an estimate of the number of entities that intend to apply for funding under this competition. Therefore, we strongly encourage each potential applicant to notify us by e-mail of your intent to submit an application for funding via this Internet address: literacyandschoollibraries@ed.gov

Please put “Notice of Intent” in the subject line. Applicants that fail to provide this e-mail notification may still apply for funding.

Deadline for Transmittal of Applications: July 24, 2002.

Deadline for Intergovernmental Review: September 23, 2002.

Estimated Available Funds: $12,125,000.

Estimated Range of Awards: $20,000 to $250,000.

Estimated Average Size of Awards: The size of the awards will be commensurate with the nature and scope of the work proposed and the number of schools to be served. The Department estimates the average amount of each award based on a maximum of $25,000 per school to be served.

Estimated Number of Awards: 75.

Note: The Department is not bound by any estimates in this notice.

Project Period: 12 months.

Page Limit: The application must include the following sections: title page form (ED 424), one-page abstract, program narrative, individual resumes (up to 3 pages) for project directors and other key personnel, budget summary form (ED 524) with budget narrative, and statement of equitable access (GEPA 427). The program narrative must address the selection criteria that reviewers use to evaluate your application. Applicants are strongly encouraged to limit the program narrative (text plus all figures, charts, tables, and diagrams) to the equivalent of 15 pages, using the following standards:

• A “page” is 8.5″ x 11″, on one side only, with 1” margins at the top, bottom, and both sides.

• Double space (no more than three lines per vertical inch) all text in the program narrative.

• Use a font that is either 12-point or larger or no smaller than 10 pitch (characters per inch).

• Include all critical information in the program narrative, eliminating the need for appendices.

• The page limit does not apply to the title page form (ED 424), the one-page abstract, the budget summary form and narrative budget justification, the resumes, or the assurances and certifications.

We have found that reviewers are able to conduct the highest quality review when applications are concise and easy to read, with pages consecutively numbered.

Applicable Regulations: The Education Department General Administrative Regulations (EDGAR) in 34 CFR parts 75, 77, 79, 80, 81, 82, 85, 97, 98 and 99.

Description of Program: The Improving Literacy through School Libraries (LSL) program, subpart 4 of part B of Title I of the Elementary and Secondary Education Act, as amended, promotes comprehensive local strategies to improve student reading achievement by improving school library services and resources. The LSL program is one component of the Department's commitment to dramatically improving student reading achievement by focusing available resources, including those of school library media centers, on ensuring that no child is left behind. School library media centers have an important role to play in contributing to the success of local improvement plans, especially in the literacy area, by increasing collaboration among instructional and school library media center staff, providing additional instructional materials and resources, and extending hours of operation during non-school hours.

Recent studies on the impact of school library media centers on student achievement show that a well-designed and effective school library media program includes the following attributes:

• Book collections and other media resources that are well-stocked and varied.

• Increased hours of access, such as during times outside the regular school day (such as in the morning, afternoon or weekends).

• Professional development to train school library media specialists to work closely with teachers in curriculum planning and with students in using the library.

• Improved student access via technology within the school.

• Collaboration to provide computer access to resources from other libraries, including university and public libraries.

Studies that examined the relation between school library media centers and student achievement indicated that reading test scores were higher when—

• Library media specialists were full time;

• Library hours of operation were extended; and

• Library staff spent time planning instructional units with teachers, teaching students how to access information, and serving on school-based curriculum and standards committees.

While ongoing research on libraries is expected to provide further information, studies already demonstrate a positive relationship between effective school library media centers and student achievement in reading.

Priorities

Absolute Priority

This competition focuses on projects designed to meet the following absolute priority. Under 34 CFR 75.105(c)(3) we consider only applications that meet the priority.

To improve the services of a school library media center and the achievement of the students it serves, applicants must propose programs in their districts that incorporate the critical elements of a school library media center.

Applicants must propose programs that address two or more of the following critical elements:

1. Library media specialists will actively collaborate with teachers and work with students.

2. The applicant's plan for the acquisition of books and other resources will reflect and support this collaboration.

3. A school library media center will possess the technology necessary to expand its reach to classrooms or other libraries, or to both.

4. A school library media center will provide expanded hours to give students more access.

Invitational Priority

Within the absolute priority, we are particularly interested in applications that meet the following invitational priority.

The Secretary strongly encourages applicants to focus their efforts on elementary schools to maximize the impact of the project on improving reading achievement. Coordination and collaboration among school library and media staff, teachers, and parents are important to ensure high-quality projects as well as the sustainability of the activities.

Under 34 CFR 75.105(c)(1) we do not give an application that meets the invitational priority a competitive or absolute preference over other applications.

Waiver of Proposed Rulemaking

Under the Administrative Procedure Act (5 U.S.C. 553) the Department generally offers interested parties the opportunity to comment on proposed requirements. However, in order to make timely grant awards in FY 2002, the Secretary has decided to issue this application notice without first publishing these proposed requirements for public comment. These requirements will apply to the FY 2002 grant competition only. The Secretary takes this action under section 437(d)(1) of the General Education Provisions Act.

Selection Criteria

We use the following selection criteria to evaluate applications for new grants under this competition.

The maximum score for all of these criteria is 100 points.

The maximum score for each criterion is indicated in parentheses.

We evaluate an application by determining how well the proposed project meets the following provisions:

(a) Needs Assessment (15 points). Demonstrated need for school library media improvement, based on the age and condition of book collections and other school library media resources, access of school library media centers to advanced technology, the availability of well-trained, professionally certified school library media specialists in schools served by the eligible local educational agency, and the educational achievement of the students to be served.

(b) Use of Funds (25 points). How well the applicant will use the funds made available through the grant to carry out those of the following activities that meet its needs and satisfy the Absolute Priority section of this notice, by proposing programs that address two or more of the critical elements of a school library media center identified in that priority.

(1) Acquiring up-to-date books and other school library media resources.

(2) Acquiring and using advanced technology incorporated into the curricula of the school to develop and enhance the research and critical thinking skills of students.

(3) Facilitating Internet links and other resource-sharing networks among schools and school library media centers, and public and academic libraries, where possible.

(4) Providing professional development for school library media specialists that is based on scientifically based reading research, and includes, to the extent relevant to the project, knowledge of early language and reading development, and activities that foster increased collaboration between school library media specialists, teachers, and administrators.

(5) Providing students with access to school libraries during nonschool hours, which may include the hours before and after school, during weekends, and during summer vacation periods.

(c) Use of Scientifically Based Research (10 points). The manner in which the applicant will carry out the activities described in paragraph (b) of this section using programs and materials that are grounded in scientifically based research, as defined by the statute, including using scientifically based programs and activities that support the essential components of reading research.

(d) Broad-based Involvement (10 points). How the applicant will extensively involve school library media specialists, teachers, administrators, and parents in the proposed project activities.

(e) Coordination (15 points). How the applicant will effectively coordinate the funds and activities provided under this program with other literacy, library, technology, and professional development funds and activities.

(f) Adequacy of Resources (5 points). The potential for continued support of the project after Federal funding ends, including, as appropriate, the demonstrated commitment of appropriate entities to such support; and

(g) Evaluation of Quality and Impact (20 points). How the applicant will collect and analyze data on the quality and impact of the project activities, including their impact on student achievement, in a manner that is rigorous, systematic, objective, and will yield data on program effectiveness and best practices.

Geographic Distribution

In making funding decisions we will also consider the equitable distribution of grants across geographic regions and among local educational agencies serving urban and rural areas.

Intergovernmental Review of Federal Programs

This program is subject to the requirements of Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order.

If you want to know the name and address of any SPOC, see the latest official SPOC list on the Web site of the Office of Management and Budget at the following address: http://www.whitehouse.gov/omb/grants/spoc.html. In States that have not established a process or chosen a program for review, State, area-wide, regional, and local entities may submit comments directly to the Department.

Any State Process Recommendation and other comments submitted by a SPOC and any comments from State, areawide, regional, and local entities must be mailed or hand-delivered by the date indicated in this application notice to the following address: The Secretary, E.O. 12372-CFDA No. 84.364, U.S. Department of Education, room 7E200, 400 Maryland Avenue, SW., Washington, DC 20202-0125.

We will determine proof of mailing under 34 CFR 75.102 (deadline date for applications). Recommendations or comments may be hand-delivered until 4:30 p.m. (Washington, DC time) on the date indicated in this notice.

PLEASE NOTE THAT THE ABOVE ADDRESS IS NOT THE SAME ADDRESS AS THE ONE TO WHICH AN APPLICANT SUBMITS ITS COMPLETED APPLICATION. DO NOT SEND APPLICATIONS TO THE ABOVE ADDRESS.

Application Instructions and Forms

The Appendix to this notice contains forms and instructions, a statement regarding estimated public reporting burden, a notice to applicants regarding compliance with section 427 of the General Education Provisions Act, and various assurances and certifications. Please organize the parts and additional materials in the following order:

• Application for Federal Education Assistance (ED 424 (Exp. 11/30/2004)) and instructions and definitions.

• Protection of Human Subjects in Research (Attachment to ED 424).

• Budget Information—Non-Construction Programs (ED Form No. 524) and instructions. An applicant must provide a budget narrative that provides budget information for the 12-month budget period of the proposed project.

• Application Narrative (including an abstract that identifies the selected program elements from the Absolute Priority section of this notice).

• Assurances—Non-Construction Programs (Standard Form 424B) (Rev. 7-97).

• Certifications regarding Lobbying; Debarment, Suspension, and Other Responsibility Matters; and Drug-Free Workplace Requirements (ED 80-0013, 12/98) and instructions.

• Certification regarding Debarment, Suspension, Ineligibility and Voluntary Exclusion: Lower Tier Covered Transactions (ED 80-0014, 9/90) and instructions.

Note: ED 80-0014 is intended for the use of grantees and should not be transmitted to the Department.

• Disclosure of Lobbying Activities (Standard Form LLL (Rev. 7-97)) and instructions.

You may submit information on a photocopy of the application and budget forms, the assurances, and the certifications. However, the application form, the assurances, and the certifications must each have an original signature. We will not award a grant unless we have received a completed application form.

Individuals with disabilities may obtain this document in an alternative format (e.g., Braille, large print, audiotape, or computer diskette) on request to the program contact person listed under FOR FURTHER INFORMATION CONTACT. However, the Department is not able to reproduce in an alternative format the standard forms included in this application notice.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

FOR FURTHER INFORMATION CONTACT: Margaret McNeely or Beth Fine, U.S. Department of Education, 400 Maryland Avenue, SW., room 5C130, FOB-6, Washington, DC 20202-6200. Telephone: (202) 260-1335 (Margaret McNeely) or (202) 260-1091 (Beth Fine) or via Internet: literacyandschoollibraries@ed.gov.

If you use a telecommunications device for the deaf (TDD), you may call the Federal Information Relay Service (FIRS) at 1-800-877-8339.

Instructions for Transmitting Applications

If you want to apply for a grant and be considered for funding, you must meet the following deadline requirements:

(a) If You Send Your Application by Mail

You must mail the original and two copies of the application on or before the deadline date. To help expedite our review of your application, we would appreciate your voluntarily including an additional three copies of your application. We request that you staple or otherwise secure one of these copies. Mail your application to: U.S. Department of Education, Application Control Center, Attention: (CFDA #84.364), 7th & D Streets, SW., Room 3671, Regional Office Building 3, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(b) If You Deliver Your Application by Hand

You or your courier must hand deliver the original and two copies of the application by 4:30 p.m. (Washington, DC time) on or before the deadline date. To help expedite our review of your application, we would appreciate your voluntarily including an additional three copies of your application. We request that you staple or otherwise secure one of these copies. Deliver your application to: U.S. Department of Education, Application Control Center, Attention: (CFDA #84.364), 7th & D Streets, SW., Room 3671, Regional Office Building 3, Washington, DC 20202-4725

The Application Control Center accepts application deliveries daily between 8 a.m. and 4:30 p.m. (Washington, DC time), except Saturdays, Sundays, and Federal holidays. The Center accepts application deliveries through the D Street entrance only. A person delivering an application must show identification to enter the building.

Notes

(1) The U.S. Postal Service does not uniformly provide a dated postmark. Before relying on this method, you should check with your local post office.

(2) If you send your application by mail or if you or your courier deliver it by hand, the Application Control Center will mail a Grant Application Receipt Acknowledgment to you. If you do not receive the notification of application receipt within 15 days from the date of mailing the application, you should call the U.S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any—of the competition under which you are submitting your application.

Special Note: Due to recent disruptions to normal mail delivery, the Department encourages you to consider using an alternative delivery method (for example, a commercial carrier, such as Federal Express or United Parcel Service; U.S. Postal Service Express Mail; or a courier service) to transmit your application for this competition to the Department. If you use an alternative delivery method, please obtain the appropriate proof of mailing under (a) “If You Send Your Application by Mail”, then follow the instructions for “(b) If You Deliver Your Application by Hand.”

Program Authority: 20 U.S.C. 6383.

Dated: May 22, 2002.
Susan B. Neuman,
Assistant Secretary for Elementary and Secondary Education.

Appendix

Instructions for Estimated Public Reporting Burden

According to the Paperwork Reduction Act of 1995, you are not required to respond to a collection of information unless it displays a valid OMB control number. The valid OMB control number for this collection of information is [1810-0652]. Expiration date: May 31, 2005. We estimate the time required to complete this collection of information to average 30 hours per response, including the time to review instructions, search existing data sources, gather the data needed, and complete and review the collection of information. If you have any comments concerning the accuracy of the time estimate or suggestions for improving this form, please write to: U.S. Department of Education, Washington, DC 20202-4651.

If you have comments or concerns regarding the status of your submission of this form, write directly to: Literacy Through School Libraries Program, U.S. Department of Education, 400 Maryland Avenue, SW., room 5C130, FOB-6, Washington, DC 20202-6200.

Instructions for Application Narrative

Before preparing the Application Narrative you should read carefully the description of the program, the information regarding the priority, and the selection criteria we use to evaluate applications.

The narrative should—

1. Begin with an abstract; that is, a summary of your proposed project (please remember to identify your selection of program elements as required by the absolute priority section of this notice);

2. Describe your proposed project in light of each of the selection criteria in the order in which we list the criteria in this notice;

3. List each function or activity for which you are requesting funds; and

4. Include any other pertinent information that might assist us in reviewing your application.

Note: The section on PAGE LIMIT elsewhere in this application notice applies to your application.

BILLING CODE 4000-01-P

[FR Doc. 02-13313 Filed 5-28-02; 8:45 am]

BILLING CODE 4000-01-C